FEDERAL COMMUNICATIONS COMMISSION

Notice of Public Information Collection(s) Being Reviewed by the Federal Communications Commission for Extension Under Delegated Authority

May 22, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments July 31, 2006. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street., SW., Room 1-C804, Washington, DC 20554.

FOR FURTHER INFORMATION CONTACT: For additional information about the information collection(s) send an e-mail to PRA@fcc.gov or contact Judith B. Herman at 202-418-0214. If you would like to obtain or view a copy of this information collection, you may do so by visiting the FCC PRA Web page at: http://www.fcc.gov/omd/pra.

SUPPLEMENTARY INFORMATION: OMB Control No.: 3060-0681.

Title: Toll-Free Service Access Codes—CC Docket No. 95-155, 47 CFR Part 52, Subpart D, and Sections 52.101-52.111.

Form No.: N/A.

Type of Review: Extension of a currently approved collection.

Respondents: Business or other for-profit and not-for-profit institutions.

Number of Respondents: 300.

Estimated Time Per Response: 15 hours.

Frequency of Response: On occasion reporting requirement and third party disclosure requirement.

Total Annual Burden: 4,500 hours.

Annual Cost Burden: N/A.

Privacy Act Impact Assessment: N/A.

Needs and Uses: This collection will be submitted to the Office of Management and Budget (OMB) after this 60 day comment period as an extension (no change in requirements) in order to obtain the full three year clearance from them.

Responsible Organizations (RespOrgs) who wish to make a specific toll free number unavailable must submit written requests to Database Services Management, Inc. (DMSI), the toll free data administrator. The request shall include documentation outlining the reason for the request. The information is necessary to hold RespOrgs more accountable and will decrease abuses of lag time process. It will also prevent numbers from being held in unavailable status without demonstrated reasons and will make more numbers available for subscribers who need and want them.

OMB Control No.: 3060-0711.

Title: Implementation of Section 34(a)(1) of the Public Utility Holding Company Act of 1935, as amended by the Telecommunications Act of 1996, (47 CFR Sections 1.5000-1.5007).

Form No.: N/A.

Type of Review: Extension of a currently approved collection.

Respondents: Business or other for-profit.

Number of Respondents: 15.

Estimated Time Per Response: 10 hours.

Frequency of Response: On occasion reporting requirement and third party disclosure requirement.

Total Annual Burden: 150 hours.

Annual Cost Burden: $48,000.

Privacy Act Impact Assessment: N/A.

Needs and Uses: This collection will be submitted to the Office of Management and Budget (OMB) after this 60 day comment period as an extension (no change in requirements) in order to obtain the full three year clearance from them.

Sections 1.5000 through 1.5007 implement Section 34(a) of the Public Utility Holding Company Act. The rules provide filing requirements and procedures to expedite pubic utility holding company entry into the telecommunications industry. Persons seeking a determination of Exempt Telecommunications Company (ETC) status must file with the Commission a brief description of their planned activities, and a sworn statement attesting to any facts presented to demonstrate eligibility for ETC status and attesting to any representation otherwise offered to demonstrate eligibility for ETC status. The information will be used by the Commission to determine whether persons satisfy the statutory criteria for exempt telecommunications company status.

OMB Control No.: 3060-0723.

Title: Public Disclosure of Network Information by Bell Operating Companies (BOCs).

Form No.: N/A.

Type of Review: Extension of a currently approved collection.

Respondents: Business or other for-profit.

Number of Respondents: 3.

Estimated Time Per Response: 120 hours.

Frequency of Response: On occasion reporting requirement and third party disclosure requirement.

Total Annual Burden: 360 hours.

Annual Cost Burden: N/A.

Privacy Act Impact Assessment: N/A.

Needs and Uses: This collection will be submitted to the Office of Management and Budget (OMB) after this 60 day comment period as an extension (no change in requirements) in order to obtain the full three year clearance from them.

Bell Operating Companies (BOCs) must make public disclosure of network information. This prevents them from designing new network services or changing network technical specifications to the advantage of their own payphones. The information required by the Public Disclosure of Network Information by BOCs must be provided to third parties. All of the requirements would be used to ensure that BOCs comply with their obligations under the 1996 Telecommunications Act.

OMB Control No.: 3060-0943.

Title: Section 54.809, Carrier Certification.

Form No.: N/A.

Type of Review: Extension of a currently approved collection.

Respondents: Business or other for-profit.

Number of Respondents: 572.

Estimated Time Per Response: 1.5 hours.

Frequency of Response: Annual reporting requirement and third party disclosure requirement.

Total Annual Burden: 858 hours.

Annual Cost Burden: N/A.

Privacy Act Impact Assessment: N/A.

Needs and Uses: This collection will be submitted to the Office of Management and Budget (OMB) after this 60 day comment period as an extension (no change in requirements) in order to obtain the full three year clearance from them.

Section 54.809 requires each price cap or competitive local exchange carrier (LEC) that wishes to receive universal support to file an annual certification with the Universal Service Administrative Company (USAC) and the Commission. The certification must state that the carrier will use its interstate access universal service support only for the provision, maintenance, and upgrading of facilities and service for which the support is intended. The Commission and USAC will use the certifications to ensure that carriers comply with section 254(e) of the Telecommunications Act of 1996.

Federal Communications Commission.
Marlene H. Dortch,
Secretary.

[FR Doc. E6-8487 Filed 5-31-06; 8:45 am]

BILLING CODE 6712-01-P